DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been removed from the Specially Designated Nationals and Blocked Person List (SDN List).

DATES: See Supplementary Information section for applicable date(s).

FOR FURTHER INFORMATION CONTACT: OFAC: Andrea Gacki, Director, tel.: 202-622-2480; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On May 28, 2003, the individuals listed below were included in the Annex to Executive Order 13219 of June 26, 2001, “Blocking Property of Persons Who Threaten International Stabilization Efforts in the Western Balkans,” as amended by Executive Order 13304 of May 28, 2003, “Termination of Emergencies With Respect to Yugoslavia and Modification of Executive Order 13219 of June 26, 2001” and added to the SDN List. On September 2, 2021 OFAC determined that circumstances no longer warrant the inclusion of the following individuals on the SDN List under this authority.

Individuals

1. KRAJISNIK, Momcilo; DOB 20 Jan 1945; POB Zabrdje, Bosnia-Herzegovina; ICTY indictee (individual) [BALKANS].

2. DJOGO, Jovan; POB Kalinovik, Bosnia-Herzegovina (individual) [BALKANS].

3. NIKOLIC, Dragan; DOB 26 Apr 1957; POB Vlasenica, Bosnia-Herzegovina; ICTY indictee (individual) [BALKANS].

Dated: September 2, 2021.
Bradley T. Smith,
Acting Director, Office of Foreign Assets Control, U.S. Department of the Treasury.

[FR Doc. 2021-19377 Filed 9-7-21; 8:45 am]

BILLING CODE 4810-AL-P